DEPARTMENT OF HEALTH AND HUMAN SERVICES

Administration for Children and Families

Proposed Information Collection Activity; Comment Request

Proposed Projects

Title: Child Care and Development Fund (CCDF) Tribal Reporting Requirements—ACF-700.

OMB No.: 0970-0430.

Description: Thee Child Care and Development Fund (CCDF) Tribal Annual Report (ACF-700) requests annual Tribal aggregate information on services provided through the CCDF, which is required by CCDF regulations (45 CFR parts 98 and 99). Tribal Lead Agencies (TLAs) are required to submit annual aggregate data appropriate to Tribal programs on children and families receiving CCDF-funded child care services. The revised ACF-700 report consists of two parts: (1) Administrative Data, and (2) Tribal Narrative. The content and format of the narrative section have been revised to make the form easier to complete, with new check box formatting. These proposed revisions will allow the Office of Child Care (OCC) to more easily generate and quantify data in the report. These changes will help us better understand Tribal activities as they relate to compliance, quality of child care, use of funds, and technical assistance needs. Information from the ACF-700 will be included in the Secretary's Report to Congress, as appropriate, and will be shared with all TLAs to inform them of CCDF-funded activities in other Tribal programs.

Respondents: Tribal Governments.

Annual Burden Estimates
Instrument | Number of respondents | Number of responses per respondent | Average burden hours per response | Total burden hours
ACF-700 Report | 260 | 1 | 38 | 9,880

Estimated Total Annual Burden Hours: 9,880.

In compliance with the requirements of Section 506(c)(2)(A) of the Paperwork Reduction Act of 1995, the Administration for Children and Families is soliciting public comment on the specific aspects of the information collection described above. Copies of the proposed collection of information can be obtained and comments may be forwarded by writing to the Administration for Children and Families, Office of Planning, Research and Evaluation, 370 L'Enfant Promenade SW., Washington, DC 20447, Attn: ACF Reports Clearance Officer. Email address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Robert Sargis,
Reports Clearance Officer.

[FR Doc. 2016-08481 Filed 4-12-16; 8:45 am]

BILLING CODE 4184-01-P